DEPARTMENT OF COMMERCE

National Oceanic and Atmospheric Administration

[I.D. 080301B]

Marine Mammals; File Nos. 1008-1637-00 and 779-1633-00

AGENCY: National Marine Fisheries Service (NMFS), National Oceanic and Atmospheric Administration (NOAA), Commerce.

ACTION: Receipt of applications.

SUMMARY: Notice is hereby given that the following applicants have applied in due form for permits to take and import marine mammals and marine mammal parts for purposes of scientific research and enhancement: John Wise, Ph.D., Yale University, School of Medicine, P.O. Box 208034, New Haven, CT, 06520-8034; and NMFS, Southeast Fisheries Science Center, 75 Virginia Beach Drive, Miami, FL 33149.

DATES: Written or telefaxed comments must be received on or before September 17, 2001.

ADDRESSES: The applications and related documents are available for review upon written request or by appointment. (See SUPPLEMENTARY INFORMATION).

FOR FURTHER INFORMATION CONTACT: Amy Sloan or Ruth Johnson, (301)713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

File No. 1008-1637-00: Dr. Wise proposes to import marine mammal parts (lung, liver, kidney, brain, skin, blubber, and reproductive organs) from all species of stranded dead marine mammals (excluding walrus, polar bear, and sea otter) collected as part of government-authorized marine mammal stranding operations along the coast of British Columbia, Canada, as well as receive such parts collected in the U.S. from stranded dead marine mammals or those that have died during rehabilitation efforts. Skin and blubber samples from live Steller sea lions and other marine mammals (excluding walrus, polar bear, and sea otter) may be received from activities permitted at the Alaska SeaLife Center, Mystic Aquarium, The Marine Mammal Center, and from other permitted research activities in the U.S. These parts will be used to determine tissue levels of metals in Steller sea lions and other marine mammal species and to establish a national resource of cell lines for use as model systems in the investigation of various factors related to marine mammal health (e.g., toxicity of metals, virology, etc.). Once the cell lines are established, they may be transferred to other researchers for such study, including export to Canada. The cell lines will not be sold for profit or used for commercial purposes.

File No. 779-1633-00: The Southeast Fisheries Science Center (SEFSC) proposes to take various cetacean species by harassment during biopsy sampling, aerial and vessel-based line-transect sampling, acoustic sampling, observations of cetacean behavior, and photo-identification for MMPA mandated stock assessment activities. Activities will occur in the North Atlantic and Gulf of Mexico over a 5-year period.

In compliance with the National Environmental Policy Act of 1969 (42 U.S.C. 4321 et seq.), an initial determination has been made that the activity proposed is categorically excluded from the requirement to prepare an environmental assessment or environmental impact statement.

Written comments or requests for a public hearing on these applications should be mailed to the Chief, Permits and Documentation Division, F/PR1, Office of Protected Resources, NMFS, 1315 East-West Highway, Room 13705, Silver Spring, MD 20910. Those individuals requesting a hearing should set forth the specific reasons why a hearing on a particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of these applications to the Marine Mammal Commission and its Committee of Scientific Advisors.

Documents for File No. 779-1633-00 (SEFSC) are available in locations as noted. File No. 1008-1637-00 (Dr. Wise) may be reviewed in all the following locations:

(All files) Permits and Documentation Division, Office of Protected Resources, NMFS, 1315 East-West Highway, Room 13705, Silver Spring, MD 20910; phone (301) 713-2289; fax (301) 713-0376;

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018;

Protected Species Coordinator, Pacific Area Office, NMFS, 1601 Kapiolani Blvd., Rm, 1110, Honolulu, HI 96814-4700; phone (808)973-2935; fax (808) 973-2941;

(File No. 779-1633-00) Northeast Region, NMFS, One Blackburn Drive, Gloucester, MA 01930-2298; phone (978) 281-9200; fax (978) 281-9371;

(File No. 779-1633-00) Southeast Region, NMFS, 9721 Executive Center Drive N., St. Petersburg, FL 33702-2432; phone (727) 570-5301; fax (727) 570-5320.

Dated: August 9, 2001.
Ann D. Terbush,
Chief, Permits and Documentation Division, Office of Protected Resources, National Marine Fisheries Service.

[FR Doc. 01-20651 Filed 8-15-01; 8:45 am]

BILLING CODE 3510-22-S